DEPARTMENT OF DEFENSE

Office of the Secretary

[Docket ID: DoD-2022-OS-0096]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 7, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Application for the Review of Discharge or Dismissal from the Armed Forces of the United States; DD Form 293; OMB Control Number 0704-0004.

Needs and Uses: Under Title 10 U.S.C. 1553 and DoD Directive 1332.41, “Boards for the Correction of Military Records and Discharge Review Board (DRBs),” former service members who received an administrative discharge have the right to appeal the characterization or reason for separation provided they do so within 15 years from the date of separation. The DD Form 293, “Application for Review of Discharge or Separation from the Armed Forces of the United States,” is the form that allows former Service members to explain the reasons for the alleged error and designate legal counsel, and provides DRBs necessary information to process requests. This information collection is needed to provide Service members a method to present to their respective Military Department Discharge Review Boards their reason/justification for a discharge upgrade, as well as providing the Military Departments with the basic data needed to process the appeal. The primary purpose of this information is to identify the arguments of the respondents and justifications for requested relief and secure their Official Military Personnel Files from the National Records Center. In addition, the collection allows the respondent to explain the reasons for the alleged error or injustice, designate counsel of choice, select the method of hearing desired, and request a records review or personal hearing.

Affected Public: Individuals or households.

Annual Burden Hours: 1,413.5 hours.

Number of Respondents: 2,827.

Responses per Respondent: 1.

Annual Responses: 2,827.

Average Burden per Response: 30 minutes.

Frequency: On occasion.

Dated: August 3, 2022.
Aaron T. Siegel,
Alternate OSD Federal Register Liaison Officer, Department of Defense.

[FR Doc. 2022-16932 Filed 8-5-22; 8:45 am]

BILLING CODE 5001-06-P